DEPARTMENT OF THE INTERIOR

Bureau of Land Management

[60% to CO-956-1420-BJ-0000-241A; 11% to CO-956-1910-BJ-4497-241A; 29% to CO-956-9820-BJ-CO01-241A]

Colorado: Filing of Plats of Survey

January 6, 2003.

SUMMARY: The plats of survey of the following described land will be officially filed in the Colorado State Office, Bureau of Land Management, Lakewood, Colorado, effective 10 a.m., January 6, 2003. All inquiries should be sent to the Colorado State Office, Bureau of Land Management, 2850 Youngfield Street, Lakewood, Colorado 80215-7093.

The plat representing the dependent resurvey and survey in Township 34 North, Range 2 West, New Mexico Principal Meridian, Group 1315, Colorado, was accepted December 10, 2002.

This survey and plat were requested by the Bureau of Indian Affairs for administrative and management purposes.

The plat representing the dependent resurvey and survey in Township 49 North, Range 7 West, New Mexico Principal Meridian, Group 1247, Colorado, was accepted October 31, 2002.

This survey and plat were requested by the National Park Service for administrative and management purposes.

The plat representing the limited corrective dependent resurvey in Township 7 North, Range 70 West, Sixth Principal Meridian, Group 761, Colorado, was accepted October 30, 2002.

The plat representing the dependent resurvey of certain mineral surveys in Township 42 North, Range 7 West, New Mexico Principal Meridian, Group 1333, Colorado, was accepted November 22, 2002.

The plat representing the corrective dependent resurvey in section 21, Township 6 North, Range 70 West, Sixth Principal Meridian, Group 632, Colorado, was accepted December 12, 2002.

The amended field notes, correcting the 1978 descriptions, for the East 1/16 section corner of sections 17 and 20, and the Center West 1/16 section corner of section 19, in T. 6 North, Range 70 West, Sixth Principal Meridian, Group 632, Colorado, was accepted November 21, 2002.

The amended field notes, correcting the 1977 description, for the Center South 1/16 section corner of section 28, in T. 6 North, Range 71 West, Sixth Principal Meridian, Group 632, Colorado, was accepted November 21, 2002.

These plats, surveys and amended field notes, were requested by the Forest Service for administrative and management purposes.

The plat representing the dependent resurvey and survey in section 26, Township 1 South, Range 83 West, Sixth Principal Meridian, Group 1319, Colorado, was accepted October 7, 2002.

The plat representing the dependent resurvey and survey, in Township 13 South, Range 98 West, Sixth principal Meridian, Group 1271, was accepted October 8, 2002.

The plat representing the dependent resurvey and survey in Township 50 North, Range 20 West, New Mexico Principal Meridian, Group 1360, Colorado, was accepted October 8, 2002.

The plat representing the dependent resurvey and survey in Township 3 South, Range 84 West, Sixth Principal Meridian, Group 1327, was accepted October 24, 2002.

The plat representing the dependent resurvey and survey in Township 3 South, Range 85 West, Sixth Principal Meridian, Group 1327, was accepted October 24, 2002.

The plat representing the dependent resurvey and survey in Township 3 North, Range 80 West, Sixth Principal Meridian, Group 1348, was accepted November 14, 2002.

The plat representing the dependent resurvey and survey in Township 14 South, Range, 103 West, Sixth Principal Meridian, Group 1291, Colorado, was accepted December 10, 2002.

The plat representing the entire record of the remonumentation of certain original corners, in Township 17 South, Range 68 West, Sixth Principal Meridian, Group 750, Colorado, was accepted December 18, 2002.

The plat representing the entire record of the remonumentation of certain original corners, in Township 16 South, Range 72 West, Sixth Principal Meridian, Group 750, Colorado, was accepted December 18, 2002.

The plat representing the entire record of the remonumentation of certain original corners, in Township 16 South, Range 73 West, Sixth Principal Meridian, Group 750, Colorado, was accepted December 18, 2002.

The amended field notes, correcting the description of ties, to local bearing trees, at the closing corner of Townships 50 and 51 North, Range 20 West, New Mexico Principal Meridian, Group 1360, Colorado, was accepted November 20, 2002.

These plats, surveys and amended field notes, were requested by the Bureau of Land Management for administrative and management purposes.

Darryl A. Wilson,
Chief Cadastral Surveyor for Colorado.

[FR Doc. 03-1046 Filed 1-16-03; 8:45 am]

BILLING CODE 4310-JB-P